DEPARTMENT OF TRANSPORTATION

Federal Aviation Administration

14 CFR Part 25

[Docket No. NM316, Special Conditions No. 25-315-SC]

Special Conditions: Airbus Model A380-800 Airplane; Discrete Gust Requirements

AGENCY: Federal Aviation Administration, DOT.

ACTION: Final special conditions; correction.

SUMMARY: This document corrects an error that appeared in Docket No. NM316, Special Conditions No. 25-312-SC, which were published in the Federal Register on January 24, 2006 (71 FR 3753). The error is in the Special Conditions No. and is being corrected herein.

DATES: Effective Date: The effective date of this correction is April 6, 2006.

FOR FURTHER INFORMATION CONTACT: Madeleine Kolb, FAA, Standardization Branch, ANM-113, Transport Airplane Directorate, Aircraft Certifications Service, 1601 Lind Avenue, SW., Renton, WA 98055-4056; telephone (425) 227-2799; facsimile (425) 227-1149.

SUPPLEMENTARY INFORMATION: The document designated as “Docket No. NM316, Special Conditions No. 25-312-SC” was published in the Federal Register on January 24, 2006 (71 FR 3753). The document issued special conditions pertaining to discrete gust requirements for the Airbus Model A380-800 airplane.

As published, the document contained an error in that the Special Conditions No. was shown as 25-312-SC, which is the number of a different set of special conditions. To avoid confusion, a new Special Condition No., 25-315-SC, has been assigned to “Special Conditions: Airbus Model A380-800 Airplane, Discrete Gust Requirements.”

Since no other part of the regulatory information has been changed, the Special Conditions are not being republished.

Correction

In Final Special Conditions document [FR Doc. 06-598, Filed 1-23-06; 8:45] and published on January 24, 2006 (71 FR 3753), make the following correction:

1. On page 3753, in the first column in the Headings section, correct “Special Conditions No. 25-312-SC” to read “Special Conditions No. 25-315-SC.”

Issued in Renton, Washington, on April 6, 2006.
Kevin Mullin,
Acting Manager, Transport Airplane Directorate, Aircraft Certification Service.

[FR Doc. 06-3947 Filed 4-26-06; 8:45 am]

BILLING CODE 4910-13-M